DEPARTMENT OF STATE

[Public Notice 8733]

In the Matter of the Amendment of the Designation of al-Qa'ida in Iraq: aka Jam'at al Tawhid wa'al-Jihad, aka The Monotheism and Jihad Group, aka The al-Zarqawi Network, aka al-Tawhid, aka Tanzim Qa`idat al-Jihad fi Bilad al-Rafidayn, aka The Organization of al-Jihad's Base of Operations in Iraq, aka al-Qaida of Jihad in Iraq, aka al-Qaida in Iraq, aka al-Qaida in Mesopotamia, aka al-Qaida in the Land of the Two Rivers, aka al-Qaida of the Jihad in the Land of the Two Rivers, aka al-Qaida of Jihad Organization in the Land of the Two Rivers, aka al-Qaida Group of Jihad in Iraq, aka al-Qaida Group of Jihad in the Land of the Two Rivers, aka The Organization of Jihad's Base in the Country of the Two Rivers, aka The Organization Base of Jihad/Country of the Two Rivers, aka The Organization of al-Jihad's Base in the Land of the Two Rivers, aka The Organization Base of Jihad/Mesopotamia, aka The Organization of al-Jihad's Base of Operations in the Land of the Two Rivers, aka Tanzeem qa'idat al Jihad/Bildad al Raafidaini, aka Islamic State of Iraq, as a Specially Designated Global Terrorist Pursuant Section 1(b) of Executive Order 13224

Based upon a review of the administrative record assembled in this matter, and in consultation with the Attorney General and the Secretary of the Treasury, I have concluded that there is a sufficient factual basis to find that al-Qa'ida in Iraq, also known by the aliases listed above, uses the additional alias Islamic State of Iraq and the Levant, also known as Islamic State of Iraq and al-Sham, also known as Islamic State of Iraq and Syria, also known as ad-Dawla al-Islamiyya fi al-'Iraq wa-sh-Sham, also known as Daesh, also known as Dawla al Islamiya, also known as Al-Furqan Establishment for Media Production as its primary name. I have further concluded that there is a sufficient factual basis to find that Al-Nusrah Front, also known as Jabhat al-Nusrah, also known as Jabhet al-Nusra, also known as The Victory Front, also known as Al Nusrah Front for the People of the Levant is, also known as Jamaat Al-Nusrah Front in Lebanon, also known as Support Front for the People of the Levant, also known as Jabaht al-Nusra li-Ahl al-Sham min Mujahedi al-Sham fi Sahat al-Jihad is no longer part of al-Qa'ida in Iraq.

Therefore, pursuant to Section 1(b) of Executive Order 13224, I hereby amend the designation of al-Qa'ida in Iraq as a Specially Designated Global Terrorist to include the following new aliases: the Islamic State of Iraq and the Levant, also known as Islamic State of Iraq and al-Sham, also known as Islamic State of Iraq and Syria, also known as ad-Dawla al-Islamiyya fi al-'Iraq wa-sh-Sham, also known as Daesh, also known as Dawla al Islamiya, also known as Al-Furqan Establishment for Media Production; and remove the following aliases: Al-Nusrah Front, also known as Jabhat al-Nusrah, also known as Jabhet al-Nusra, also known as The Victory Front, also known as Al Nusrah Front for the People of the Levant.

This determination shall be published in the Federal Register.

Dated: May 7, 2014.
John F. Kerry,
Secretary of State.

[FR Doc. 2014-11219 Filed 5-14-14; 8:45 am]

BILLING CODE 4710-01-P